DEPARTMENT OF COMMERCE

National Oceanic and Atmospheric Administration

[ID 020303F]

Submission for OMB Review; Comment Request

The Department of Commerce has submitted to the Office of Management and Budget (OMB) for clearance the following proposal for collection of information under the provisions of the Paperwork Reduction Act (44 U.S.C. Chapter 35).

Agency: National Oceanic and Atmospheric Administration.

Title: Application Form for Membership on a National Marine Sanctuary Advisory Council.

Form Number(s): None.

OMB Approval Number: 0648-0397.

Type of Request: Regular submission.

Burden Hours: 150.

Number of Respondents: 150.

Average Hours Per Response: 1.

Needs and Uses: Section 315 of the National Marine Sanctuaries Act (16 U.S.C. 1445a) allows the Secretary of Commerce to establish one or more advisory councils to provide advice to the Secretary regarding the designation and management of national marine sanctuaries. Councils are individually chartered for each sanctuary to meet the needs of that sanctuary. Once a council has been chartered, the Sanctuary Manager starts a process to recruit members for that Council by providing notice to the public and asking interested parties to apply for the available seats. An application form and answers to guidelines for a narrative submission must be submitted to the Sanctuary Manager.

Affected Public: Individuals or households, business or other for-profit organizations, and not-for-profit institutions.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: January 31, 2003.
Gwellnar Banks,
Management Analyst, Office of the Chief Information Officer.

[FR Doc. 03-3003 Filed 2-6-03; 8:45 am]

BILLING CODE 3510-NK-S